DEPARTMENT OF ENERGY

Federal Energy Regulatory Commission

[Docket No. CP08-5-000]

Southern Natural Gas Company; Magnolia Enterprise Holdings, Inc.; Notice of Application

October 19, 2007.

Take notice that on October 5, 2007, Southern Natural Gas Company (Southern), P.O. Box 2563, Birmingham, Alabama 35202-2563, filed an application in Docket No. CP08-5-000 pursuant to section 7 of the Natural Gas Act (NGA), for approval to abandon and lease certain pipeline and appurtenant facilities and authorization to construct, install and operate a new compressor unit on its Cypress Pipeline and related appurtenant facilities. Magnolia Enterprise Holdings, Inc. (MEHI), Ten Peachtree Place, Location 1466, Atlanta, Georgia 30309, filed a request in the same application pursuant to section 7 of the NGA, for authorization to acquire certain pipeline, measurement and compression facilities and to lease those facilities back to Southern, all as more fully set forth in the application which is on file with the Commission and open to public inspection.

It is stated that pursuant to the terms of a Purchase and Sale Agreement between Southern and AGL Resources, Inc., MEHI's parent company, Southern requests authorization to abandon by sale to MEHI an undivided interest of the following:

Twin 30 Pipelines extending from Southern's interconnection with Elba Island to Port Wentworth, Georgia in Chatham County, Georgia and Jasper County, South Carolina; 10 miles of Southern's 20-inch Wrens to Savannah Second Loop Line from the interconnection with the Twin 30 Pipelines at Port Wentworth, Georgia, to the Rincon Gate in Effingham County, Georgia; The Cypress Pipeline from the take off point on the Wrens Savannah Lines to the interconnection with Atlanta Gas Light Company's (AGLC) Brunswick Pipeline in Glynn County, Georgia, including, as applicable, the compressor facilities to be constructed on that portion of the Cypress Pipeline; and Southern's Brunswick Pipeline from the Jackson Measurement Station at Milepost 53.8 to Milepost 0.0.

It is stated that upon closing of the sale of the facilities, MEHI and Southern request authorization for MEHI to lease to Southern the facilities, including the compression facilities to be constructed, and AGLC's Brunswick Pipeline that it proposes to sell to MEHI so that Southern may operate and maintain the facilities as part of its interstate gas pipeline system under the terms of Southern's tariff. In addition, it is stated that MEHI requests pregranted abandonment authority to sell the AGLC Brunswick Pipeline back to AGLC upon termination of the lease.

This filing is available for review at the Commission in the Public Reference Room or may be viewed on the Commission's Web site at http://www.ferc.gov using the “eLibrary” link. Enter the docket number excluding the last three digits in the docket number field to access the document. For assistance, contact FERC Online Support at FERCOnlineSupport@ferc.gov or Telephone: 202-502-6652; Toll-free: 1-866-208-3676; or for TTY, contact (202) 502-8659.

Any initial questions regarding Southern's proposal in this application should be directed to Patricia S. Francis, Senior Counsel, Southern Natural Gas Company, P.O. Box 2563, Birmingham, Alabama 35202-2563, or call (205) 325-7696. Any initial questions regarding EMHI's proposal in this application should be directed to Shannon Omia Pierce, Senior Regulatory Counsel, AGL Resources, Inc., Ten Peachtree Place, 15th floor, Atlanta, Georgia 30309, or call (404) 584-3394.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceeding for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project, should submit an original and two copies of their comments to the Secretary of the Commission. Environmental commentors will be placed on the Commission's environmental mailing list, will receive copies of the environmental documents, and will be notified of meetings associated with the Commission's environmental review process. Environmental commentors will not be required to serve copies of filed documents on all other parties. The Commission's rules require that persons filing comments in opposition to the project provide copies of their protests only to the applicant. However, the non-party commentors will not receive copies of all documents filed by other parties or issued by the Commission (except for the mailing of environmental documents issued by the Commission) and will not have the right to seek court review of the commission's final order.

The Commission strongly encourages electronic filings of comments, protests, and interventions via the Internet in lieu of paper; see 18 CFR 385.2001(a)(1)(iii) and the instructions on the Commission's Web site under the “e-Filing” link.

Comment Date: November 9, 2007.

Kimberly D. Bose,
Secretary.

[FR Doc. E7-21160 Filed 10-25-07; 8:45 am]

BILLING CODE 6717-01-P